DEPARTMENT OF TRANSPORTATION

Federal Aviation Administration

14 CFR Part 39

[Docket No. FAA-2013-1066; Directorate Identifier 2013-NM-021-AD; Amendment 39-18029; AD 2014-23-13]

RIN 2120-AA64

Airworthiness Directives; Airbus Airplanes

AGENCY: Federal Aviation Administration (FAA), Department of Transportation (DOT).

ACTION: Final rule.

SUMMARY: We are superseding Airworthiness Directive (AD) 2000-12-12, for certain Airbus Model A300, A300-600, and A310 series airplanes. AD 2000-12-12 required inspecting to detect cracks in the lower spar axis of the nacelle pylon between ribs 9 and 10, and repair if necessary. AD 2000-12-12 also provided for optional modification of the pylon, which terminated the inspections for Model A300 series airplanes. This new AD reduces the initial and repetitive inspection compliance times. This AD was prompted by reports of cracking of the lower pylon spar after accomplishing the existing modification. We are issuing this AD to detect and correct fatigue cracking, which could result in reduced structural integrity of the lower spar of the nacelle pylon.

DATES: This AD becomes effective January 9, 2015.

The Director of the Federal Register approved the incorporation by reference of certain publications listed in this AD as of January 9, 2015.

The Director of the Federal Register approved the incorporation by reference of a certain other publication listed in this AD as of July 28, 2000 (65 FR 39072, June 23, 2000).

The Director of the Federal Register approved the incorporation by reference of certain other publications listed in this AD as of June 12, 1995 (60 FR 25604, May 12, 1995).

ADDRESSES: You may examine the AD docket on the Internet at http://www.regulations.gov/#!docketDetail;D=FAA-2013-1066; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2000-12-12, Amendment 39-11790 (65 FR 39072, June 23, 2000). AD 2000-12-12 applied to certain Airbus Model A300, A300-600, and A310 series airplanes. The NPRM published in the Federal Register on December 30, 2013 (78 FR 79333).

The European Aviation Safety Agency (EASA), which is the Technical Agent for the Member States of the European Community, has issued EASA Airworthiness Directive 2013-0016, dated September 17, 2013 (referred to after this as the Mandatory Continuing Airworthiness Information, or “the MCAI”), to correct an unsafe condition for certain Airbus Model A300, A300-600, and A310 series airplanes. The MCAI states:

Cracks were found between ribs 9 and 10 in the lower pylon spar of A310 aeroplanes equipped with Pratt & Whitney (PW) engines.

For A310, A300 and A300-600 aeroplanes and, in order to prevent crack initiation, the implementation of a first inspection programme of this area was required by DGAC [Direction Générale de l'Aviation Civile] France AD 1992-049-130(B) [which corresponds to certain actions in FAA AD 2000-12-12, Amendment 39-11790 (65 FR 39072, June 23, 2000)], currently at Revision 4.

General Electric (GE) and PW pylons on A300 aeroplanes are also affected, due to similar design.

After that [DGAC] AD was issued, prompted by new findings, a specific inspection programme for A310 aeroplanes was introduced and required by DGAC France AD 1999-237-285(B) [which corresponds to certain actions in FAA AD 2000-12-12, Amendment 39-11790 (65 FR 39072, June 23, 2000)], which was subsequently superseded by EASA AD 2008-0008 [http://ad.easa.europa.eu/blob/easa_ad_2008_0008_superseded.pdf/AD_2008-0008_1], which introduced new thresholds and intervals in the frame of the A310 extended service goal exercise.

Some cracks, which were discovered after the implementation of the preventive modification, prompted Airbus to perform a new Fatigue and Damage Tolerance analysis with a refined model of the area with and without repair or preventive reinforcement before crack appearance. Based on the results of this analysis, Airbus revised the related Service Bulletins to introduce more restrictive thresholds and intervals for curative and preventive repair configuration.

EASA issued AD 2013-0014 [http://ad.easa.europa.eu/blob/easa_ad_2013_0214.pdf/AD_2013-0014_1], which superseded DGAC France AD 1992-049-130(B) and EASA AD 2008-0008, to mandate a new inspection programme [including related investigative and corrective actions].

After EASA AD 2013-0014 was issued, further analysis allowed to identify one A300 aeroplane model and one retrofitted A300 MSN [manufacturer serial number] missing in the applicability chapter.

For the reason described above, this [EASA] AD retains the requirements of EASA AD 2013-0014, which is superseded, and clarifies the Applicability section and adds one A300 model and one A300 MSN.

The unsafe condition is fatigue cracking, which could result in reduced structural integrity of the lower spar of the nacelle pylon. Related investigative actions include additional eddy current and liquid penetrant inspections for cracking. Corrective actions include repairing cracking. For certain cracking lengths, repairs are described as reinforcing the lower spar with a doubler. You may examine the MCAI in the AD docket on the Internet at http://www.regulations.gov/#!documentDetail;D=FAA-2013-1066-0002.

Comments

We gave the public the opportunity to participate in developing this AD. The following presents the comments received on the NPRM (78 FR 79333, December 30, 2013) and the FAA's response to each comment.

“Contacting the Manufacturer” Paragraph in This AD

United Parcel Service (UPS) requested that we revise the NPRM (78 FR 79333, December 30, 2013) to remove the requirement to include the AD reference in repair approvals. UPS noted its concerns that the proposal would require development of a unique Airbus process for U.S. operators; that it could have significant financial and administrative impacts to existing customer support agreements and different AD records requirements within an operator's fleet; that it will increase requests for approval of alternative methods of compliance (AMOC) and result in delayed return to service; and that it creates a new requirement that did not exist when the superseded AD was written.

We concur with the commenter's request to remove from this AD the requirement that repair approvals must specifically refer to this AD.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (78 FR 79333, December 30, 2013), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

UPS specifically stated the following in its comments to the NPRM (78 FR 79333, December 30, 2013): “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Commenters to an NPRM having Directorate Identifier 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed from this AD the requirement that the DAH-provided repair specifically refer to this AD. Before adopting such a requirement, the FAA will coordinate with affected DAHs and verify they are prepared to implement means to ensure that their repair approvals consider the unsafe condition addressed in the AD. Any such requirements will be adopted through the normal AD rulemaking process, including notice-and-comment procedures, when appropriate.

We also have decided to revise the language in paragraphs (g)(3), (g)(4), (h)(3), (h)(4), (i)(3), and (i)(4) of this AD to retain references to repair approvals done by the DGAC (or its delegated agent) from AD 2000-12-12, Amendment 39-11790 (65 FR 39072, June 23, 2000), as well as including references to EASA and the specific delegation approval granted by EASA for the DAH. Further, we revised paragraphs (n)(2) and (n)(3) of this AD to remove references to the “delegated agent” and the “DAH with State of Design Authority design organization approval” and instead provided the specific delegation approval granted by the State of Design Authority for the DAH.

Conclusion

We reviewed the relevant data, including the comments received, and determined that air safety and the public interest require adopting this AD with the changes described previously and minor editorial changes. We have determined that these minor changes:

• Are consistent with the intent that was proposed in the NPRM (78 FR 79333, December 30, 2013) for correcting the unsafe condition; and

• Do not add any additional burden upon the public than was already proposed in the NPRM (78 FR 79333, December 30, 2013).

We also determined that these changes will not increase the economic burden on any operator or increase the scope of this AD.

Costs of Compliance

We estimate that this AD affects 91 airplanes of U.S. registry.

The actions required by AD 2000-12-12, Amendment 39-11790 (65 FR 39072, June 23, 2000), and retained in this AD take about 4 work-hours per product, at an average labor rate of $85 per work-hour. Based on these figures, the estimated cost of the actions required by AD 2000-12-12 is $340 per product.

We also estimate that it would take about 12 work-hours per product to comply with the basic requirements of this AD. The average labor rate is $85 per work-hour. Based on these figures, we estimate the cost of this AD on U.S. operators to be $92,820, or $1,020 per product.

In addition, we estimate that any necessary follow-on actions would take about 60 work-hours and require parts costing $1,680, for a cost of $6,780 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-1066; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2000-12-12, Amendment 39-11790 (65 FR 39072, June 23, 2000), and adding the following new AD:

2014-23-13 Airbus: Amendment 39-18029. Docket No. FAA-2013-1066; Directorate Identifier 2013-NM-021-AD.

(a) Effective Date

This AD becomes effective January 9, 2015.

(b) Affected ADs

This AD replaces AD 2000-12-12, Amendment 39-11790 (65 FR 39072, June 23, 2000).

(c) Applicability

This AD applies to the Airbus airplanes identified in paragraphs (c)(1) through (c)(4) of this AD, certificated in any category.

(1) Airbus Model A300 B2-203, B2K-3C, B4-103, B4-203, and B4-2C airplanes on which Airbus Modification 2434 has been embodied in production.

(2) Airbus Model A300 airplane having manufacturer serial number 125, on the left hand side pylon only.

(3) Airbus Model A300 B4-620, B4-622R, and B4-622 airplanes, except for airplanes on which Airbus Modification 10149 has been embodied in production.

(4) Airbus Model A310-221, -222, -322, -324, and -325 airplanes, except for airplanes on which Airbus Modification 10149 has been embodied in production.

(d) Subject

Air Transport Association (ATA) of America Code 54, Nacelles/pylons.

(e) Reason

This AD was prompted by reports of cracking of the lower pylon spar after accomplishing an existing modification. We are issuing this AD to detect and correct fatigue cracking, which could result in reduced structural integrity of the lower spar of the nacelle pylon.

(f) Compliance

Comply with this AD within the compliance times specified, unless already done.

(g) Retained Inspection and Corrective Action for Certain Model A300 Series Airplanes

This paragraph restates the requirements of paragraph (a) of AD 2000-12-12, Amendment 39-11790 (65 FR 39072, June 23, 2000), with additional sources for repair approvals. For Model A300 B4-2C, B2K-3C, B2-203, B4-103, and B4-203 series airplanes: Prior to the accumulation of 9,000 total landings, or within 500 landings after June 12, 1995 (the effective date of AD 95-10-03, Amendment 39-9220 (60 FR 25604, May 12, 1995)), whichever occurs later, perform an internal eddy current inspection to detect cracks in the lower spar axis of the pylon between ribs 9 and 10, in accordance with Airbus Service Bulletin A300-54-071, dated November 12, 1991; or Revision 1, dated October 15, 1993. Accomplishment of an inspection required by paragraph (k), (l), or (m) of this AD terminates the inspection requirements of this paragraph.

(1) If no crack is found, repeat the inspection thereafter at intervals not to exceed 2,500 landings.

(2) If any crack is found that is less than or equal to 30 millimeters (mm): Perform subsequent inspections and repair in accordance with the methods and times specified in Airbus Service Bulletin A300-54-071, dated November 12, 1991; or Revision 1, dated October 15, 1993.

(3) If any crack is found that is greater than 30 mm, but less than 100 mm: Before further flight, repair using a method approved by the Manager, International Branch, ANM-116, Transport Airplane Directorate, FAA; or the Direction Générale de l'Aviation Civile (DGAC) (or its delegated agent); or the European Aviation Safety Agency (EASA); or Airbus's EASA Design Organization Approval (DOA).

(4) If any crack is found that is greater than or equal to 100 mm: Before further flight, repair using a method approved by the Manager, International Branch, ANM-116, Transport Airplane Directorate, FAA; or the DGAC (or its delegated agent); or the EASA; or Airbus's EASA DOA.

(5) Accomplishment of the modification specified in Airbus Service Bulletin A300-54-0079, dated October 15, 1993, constitutes terminating action for the inspections required by paragraph (g) of this AD.

(h) Retained Inspection and Corrective Action for Model A300-600 Series Airplanes

This paragraph restates the requirements of paragraph (b) of AD 2000-12-12, Amendment 39-11790 (65 FR 39072, June 23, 2000), with additional sources for repair approvals. For Model A300-600, B4-620, C4-620, B4-622R, and B4-622 series airplanes: Except as provided by paragraph (h)(5) of this AD, prior to the accumulation of 4,000 total landings, or within 500 landings after June 12, 1995 (the effective date of AD 95-10-03, Amendment 39-9220 (60 FR 25604, May 12, 1995)), whichever occurs later, perform an internal eddy current inspection to detect cracks in the lower spar axis of the pylon between ribs 9 and 10, in accordance with Airbus Service Bulletin A300-54-6011, dated November 12, 1991, as amended by Airbus Service Bulletin Change Notice O.A., dated July 10, 1992; or Revision 1, dated October 15, 1993. Accomplishment of an inspection required by paragraph (k), (l), or (m) of this AD terminates the inspection requirements of this paragraph.

(1) If no crack is found, repeat the inspection thereafter at intervals not to exceed 2,500 landings.

(2) If any crack is found that is less than or equal to 30 mm: Perform subsequent inspections and repair in accordance with the methods and times specified in Airbus Service Bulletin A300-54-6011, dated November 12, 1991, as amended by Airbus Service Bulletin Change Notice O.A., dated July 10, 1992; or Revision 1, dated October 15, 1993.

(3) If any crack is found that is greater than 30 mm, but less than 100 mm: Before further flight, repair using a method approved by the Manager, International Branch, ANM-116, Transport Airplane Directorate, FAA; or the DGAC (or its delegated agent); or the EASA; or Airbus's EASA DOA.

(4) If any crack is found that is greater than or equal to 100 mm: Before further flight, repair using a method approved by the Manager, International Branch, ANM-116, Transport Airplane Directorate, FAA; or the DGAC (or its delegated agent); or the EASA; or Airbus's EASA DOA.

(5) Accomplishment of the modification specified in Airbus Service Bulletin A300-54-6019, dated October 15, 1993, increases the threshold and repetitive interval of the inspections required by paragraph (h) of this AD to the threshold and interval specified in paragraph 2.D. of the Accomplishment Instructions of Airbus Service Bulletin A300-54-6011, Revision 1, dated October 15, 1993.

(i) Retained Inspection and Corrective Action for Model A310 Series Airplanes

This paragraph restates the requirements of paragraph (c) of AD 2000-12-12, Amendment 39-11790 (65 FR 39072, June 23, 2000), with additional sources for repair approvals. For Model A310-221, -222, -322, -324, and -325 series airplanes: Perform an internal eddy current inspection to detect cracks in the lower spar axis of the pylon between ribs 9 and 10, in accordance with Airbus Service Bulletin A310-54-2016, dated November 12, 1991; or Revision 1, dated October 15, 1993; or Revision 02, dated June 11, 1999; at the time specified in paragraph (j) of this AD. Accomplishment of an inspection required by paragraph (k), (l), or (m) of this AD terminates the inspection requirements of this paragraph.

(1) If no crack is found, repeat the inspection thereafter at intervals not to exceed 2,500 landings.

(2) If any crack is found that is less than or equal to 30 mm: Perform subsequent inspections and repair in accordance with the methods and times specified in Airbus Service Bulletin A310-54-2016, dated November 12, 1991; or Revision 1, dated October 15, 1993; or Revision 02, dated June 11, 1999.

(3) If any crack is found that is greater than 30 mm, but less than 100 mm: Before further flight, repair using a method approved by the Manager, International Branch, ANM-116, Transport Airplane Directorate, FAA; or the DGAC (or its delegated agent); or the EASA; or Airbus's EASA DOA.

(4) If any crack is found that is greater than or equal to 100 mm: Before further flight, repair using a method approved by the Manager, International Branch, ANM-116, Transport Airplane Directorate, FAA; or the DGAC (or its delegated agent); or the EASA; or Airbus's EASA DOA.

(5) Accomplishment of the modification specified in Airbus Service Bulletin A310-54-2022, dated October 15, 1993; or Revision 01, dated March 16, 1999; increases the threshold and repetitive interval of the inspections required by paragraph (i) of this AD to the threshold and interval specified in paragraph 2.D. of the Accomplishment Instructions of Airbus Service Bulletin A310-54-2016, Revision 02, dated June 11, 1999.

(j) Retained Compliance Time for Paragraph (i) of This AD

This paragraph restates the requirements of paragraph (d) of AD 2000-12-12, Amendment 39-11790 (65 FR 39072, June 23, 2000), with no changes. Perform the initial inspection required by paragraph (i) of this AD at the earlier of the times specified by paragraphs (j)(1) and (j)(2) of this AD.

(1) Prior to the accumulation of 25,000 total landings, or within 500 landings after June 12, 1995 (the effective date of AD 95-10-03, Amendment 39-9220 (60 FR 25604, May 12, 1995), whichever occurs later.

(2) At the applicable time specified by paragraph (j)(2)(i), (j)(2)(ii), or (j)(2)(iii) of this AD.

(i) For airplanes that have accumulated fewer than 10,000 landings as of July 28, 2000 (the effective date of AD 2000-12-12, Amendment 39-11790 (65 FR 39072, June 23, 2000)): Perform the inspection prior to the accumulation of 3,800 total landings, or within 1,500 landings after July 28, 2000, whichever occurs later.

(ii) For airplanes that have accumulated 10,000 total landings or more, but fewer than 20,000 total landings, as of July 28, 2000 (the effective date of AD 2000-12-12, Amendment 39-11790 (65 FR 39072, June 23, 2000)): Perform the inspection within 1,000 landings after July 28, 2000.

(iii) For airplanes that have accumulated 20,000 total landings or more as of July 28, 2000 (the effective date of AD 2000-12-12, Amendment 39-11790 (65 FR 39072, June 23, 2000)): Perform the inspection within 500 landings after July 28, 2000.

(k) New Repetitive Inspections for Cracking

(1) For airplanes identified in paragraph (k)(2) of this AD: Except as provided by paragraphs (n)(1) and (n)(4) of this AD, at the applicable compliance time specified in paragraph 1.E.(2), “Compliance,” of the applicable service bulletin specified in paragraph (k)(1)(i), (k)(1)(ii), or (k)(1)(iii) of this AD, or within 100 flight cycles after the effective date of this AD, whichever occurs later, do an eddy current inspection or liquid penetrant inspection for cracking of the lower spar of the pylon between ribs 9 and 10; and do all applicable related investigative and corrective actions; in accordance with the Accomplishment Instructions of the applicable service bulletin specified in paragraph (k)(1)(i), (k)(1)(ii), or (k)(1)(iii) of this AD, except as required by paragraphs (n)(2) and (n)(3) of this AD. Do all applicable related investigative and corrective actions before further flight. Repeat the inspection of the lower spar of the pylon between ribs 9 and 10 thereafter at intervals not to exceed the applicable interval specified in paragraph 1.E.(2), “Compliance,” of the applicable service bulletin specified in paragraph (k)(1)(i), (k)(1)(ii), or (k)(1)(iii) of this AD. Accomplishment of corrective actions required by this paragraph terminates the repetitive inspections required by this paragraph. Accomplishment of an inspection required by this paragraph terminates the inspection requirements of paragraphs (g), (h), and (i) of this AD. Accomplishment of the optional modification specified in the applicable service bulletin specified in paragraph (k)(1)(i), (k)(1)(ii), or (k)(1)(iii) of this AD terminates the repetitive inspections required by this paragraph.

(i) Airbus Service Bulletin A300-54-0071, Revision 04, dated April 11, 2013 (for Model A300 B2-203, B2K-3C, B4-103, B4-203, and B4-2C airplanes).

(ii) Airbus Service Bulletin A310-54-2016, Revision 06, dated January 16, 2013 (for Model A310-221, -222, -322, -324, and -325 airplanes).

(iii) Airbus Service Bulletin A300-54-6011, Revision 03, dated June 23, 2011 (for Model A300 B4-620, B4-622R, and B4-622 airplanes).

(2) For airplanes that have not been modified or repaired with a doubler as specified in the applicable service bulletin specified in paragraph (k)(2)(i), (k)(2)(ii), or (k)(2)(iii) of this AD, do the inspections required by paragraph (k)(1) of this AD.

(i) Airbus Service Bulletin A300-54-0079 (for Model A300 B2-203, B2K-3C, B4-103, B4-203, and B4-2C airplanes).

(ii) Airbus Service Bulletin A310-54-2022 (for Model A310-221, -222, -322, -324, and -325 airplanes).

(iii) Airbus Service Bulletin A300-54-6019 (for Model A300 B4-620, B4-622R, and B4-622 airplanes).

(l) New Repetitive Inspections for Post-Repair Airplanes

For airplanes that have been repaired with a doubler as specified in the applicable Airbus service bulletin specified in paragraph (k)(1)(i), (k)(1)(ii), or (k)(1)(iii) of this AD: At the applicable time specified in paragraph 1.E.(2), “Compliance,” in the applicable service bulletin specified in paragraph (k)(1)(i), (k)(1)(ii), or (k)(1)(iii) of this AD, except as specified in paragraphs (n)(1) and (n)(4) of this AD, do an eddy current inspection or liquid penetrant inspection for cracking of the lower spar of the pylon between ribs 9 and 10, and do all applicable corrective actions, in accordance with the Accomplishment Instructions of the applicable service bulletin specified in paragraph (k)(1)(i), (k)(1)(ii), or (k)(1)(iii) of this AD, except as required by paragraph (n)(2) of this AD. Do all applicable corrective actions before further flight. Repeat the inspection of the lower spar of the pylon between ribs 9 and 10 thereafter at intervals not to exceed the applicable interval specified in paragraph 1.E.(2), “Compliance,” of the applicable service bulletin specified in paragraph (k)(1)(i), (k)(1)(ii), or (k)(1)(iii) of this AD. Accomplishment of an inspection required by this paragraph terminates the inspection requirements of paragraphs (g), (h), and (i) of this AD.

(m) New Repetitive Inspections for Post-Modification Airplanes

For airplanes that have been modified as specified in the applicable Airbus service bulletin specified in paragraph (k)(1)(i), (k)(1)(ii), or (k)(1)(iii) of this AD: At the applicable time specified in paragraph 1.E.(2), “Compliance,” in the applicable service bulletin specified in paragraph (k)(1)(i), (k)(1)(ii), or (k)(1)(iii) of this AD, except as specified in paragraph (n)(1) and (n)(4) of this AD: Do an eddy current inspection or liquid penetrant inspection for cracking of the lower spar of the pylon between ribs 9 and 10; and do all applicable corrective actions; in accordance with the Accomplishment Instructions of the applicable service bulletin specified in paragraph (k)(1)(i), (k)(1)(ii), or (k)(1)(iii) of this AD, except as required by paragraph (n)(2) of this AD. Do all applicable corrective actions before further flight. Repeat the inspection of the lower spar of the pylon between ribs 9 and 10 thereafter at intervals not to exceed the applicable interval specified in paragraph 1.E.(2), “Compliance,” of the applicable service bulletin specified in paragraph (k)(1)(i), (k)(1)(ii), or (k)(1)(iii) of this AD. Accomplishment of an inspection required by this paragraph terminates the inspection requirements of paragraphs (g), (h), and (i) of this AD.

(n) New Service Bulletin Exceptions

(1) Where the service bulletins specified in paragraphs (k)(1)(i), (k)(1)(ii), and (k)(1)(iii) of this AD specify a compliance time “from the publication date,” this AD requires compliance within the specified compliance time after the effective date of this AD.

(2) If any crack is detected during any inspection required by paragraph (k), (l), or (m) of this AD, and the service bulletin specified in paragraph (k)(1)(i), (k)(1)(ii), or (k)(1)(iii) of this AD specifies to contact the manufacturer: Before further flight, repair using a method approved by the Manager, International Branch, ANM-116, Transport Airplane Directorate, FAA; or the EASA; or Airbus's EASA DOA. If approved by the DOA, the approval must include the DOA-authorized signature.

(3) Where the service bulletins specified in paragraphs (k)(1)(i), (k)(1)(ii), and (k)(1)(iii) of this AD specify to contact the manufacturer for inspection requirements: Inspect using a method approved by the Manager, International Branch, ANM-116, Transport Airplane Directorate, FAA; or the EASA; or Airbus's EASA DOA. If approved by the DOA, the approval must include the DOA-authorized signature.

(4) Where the “Threshold” column in the tables in paragraph 1.E., “Compliance,” of the service bulletins specified in paragraphs (k)(1)(i), (k)(1)(ii), and (k)(1)(iii) of this AD specifies a compliance time in flight cycles/flight hours, this AD requires compliance within the corresponding time in total flight cycles/total flight hours; except that for tables for post-repair and post-modification airplanes, this AD requires compliance within the corresponding time after accomplishing the repair or modification.

(o) Credit for Previous Actions

This paragraph provides credit for actions required by paragraph (k) of this AD, if those actions were performed before the effective date of this AD using the applicable service bulletin specified in paragraphs (o)(1) through (o)(4) of this AD.

(1) Airbus Service Bulletin A300-54-071, Revision 02, dated August 25, 2000 (for Model A300 B2-203, B2K-3C, B4-103, B4-203, and B4-2C airplanes), which is not incorporated by reference in this AD.

(2) Airbus Service Bulletin A300-54-0071, Revision 03, dated October 5, 2012 (for Model A300 B2-203, B2K-3C, B4-103, B4-203, and B4-2C airplanes), which is not incorporated by reference in this AD.

(3) Airbus Service Bulletin A310-54-2016, Revision 04, dated November 16, 2007; or Airbus Service Bulletin A310-54-2016, Revision 05, dated October 5, 2012 (for Model A310-221, -222, -322, -324, and -325 airplanes); which are not incorporated by reference in this AD.

(4) Airbus Service Bulletin A300-54-6011, Revision 02, dated August 25, 2000 (for Model A300 B4-620, B4-622R, and B4-622 airplanes), which is not incorporated by reference in this AD.

(p) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2000-12-12, Amendment 39-11790 (65 FR 39072, June 23, 2000), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(q) Related Information

(1) Refer to Mandatory Continuing Airworthiness Information (MCAI) European Aviation Safety Agency Airworthiness Directive 2013-0216, dated September 17, 2013, for related information. You may examine the MCAI in the AD docket on the Internet at http://www.regulations.gov/#!documentDetail;D=FAA-2013-1066-0002.

(2) Service information identified in this AD that is not incorporated by reference in this AD is available at the addresses specified in paragraphs (r)(6) and (r)(7) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on January 9, 2015.

(i) Airbus Service Bulletin A300-54-0071, Revision 04, dated April 11, 2013.

(ii) Airbus Service Bulletin A310-54-2016, Revision 06, dated January 16, 2013.

(iii) Airbus Service Bulletin A300-54-6011, Revision 03, dated June 23, 2011.

(4) The following service information was approved for IBR on July 28, 2000 (65 FR 39072, June 23, 2000).

(i) Airbus Service Bulletin A310-54-2016, Revision 02, dated June 11, 1999.

(ii) Reserved.

(5) The following service information was approved for IBR on June 12, 1995 (60 FR 25604, May 12, 1995).

(i) Airbus Service Bulletin A300-54-071, dated November 12, 1991.

(ii) Airbus Service Bulletin A300-54-071, Revision 1, dated October 15, 1993.

(iii) Airbus Service Bulletin A300-54-6011, dated November 12, 1991.

(iv) Airbus Service Bulletin Change Notice O.A., A300-54-6011, dated July 10, 1992.

(v) Airbus Service Bulletin A300-54-6011, Revision 1, dated October 15, 1993. (Pages 1 through 10 and 12 through 19 of this document are identified as Revision 1, dated October 15, 1993; page 11 is dated November 12, 1991.)

(vi) Airbus Service Bulletin A300-54-6019, dated October 15, 1993.

(6) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on November 6, 2014.
Jeffrey E. Duven,
Manager, Transport Airplane Directorate, Aircraft Certification Service.

[FR Doc. 2014-28477 Filed 12-4-14; 8:45 am]

BILLING CODE 4910-13-P